ENVIRONMENTAL PROTECTION AGENCY

[FRL-7810-8]

Science Advisory Board Staff Office

Notification of Upcoming Meetings of the Health Effects Subcommittee of the Advisory Council on Clean Air Compliance Analysis

AGENCY: Environmental Protection Agency, (EPA).

ACTION: Notice.

SUMMARY: The EPA Science Advisory Board (SAB) Staff Office announces two public teleconferences of the Health Effects Subcommittee (HES) of the Advisory Council on Clean Air Compliance Analysis (Council) to discuss follow-on matters related to its report issued in March 2004 entitled Advisory on Plans for Health Effects Analysis in the Analytical Plan for EPA's Second Prospective Analysis—Benefits and Costs of the Clean Air Act, 1990-2020.

DATES: The public teleconferences of the Council HES will be held on September 21, 2004 from 2 p.m. to 5 p.m. (Eastern time) and on September 29, 2004 from 2 p.m. to 5 p.m. (Eastern time).

FOR FURTHER INFORMATION CONTACT: Members of the public who wish to obtain the call-in number and access code or who wish to submit written or brief oral comments (five minutes or less) must contact Dr. Holly Stallworth, Designated Federal Officer, at telephone/voice mail: (202) 343-9867 or via e-mail at: stallworth.holly@epa.gov. Requests to provide oral comments must be in writing (e-mail, fax or mail) and received by Dr. Stallworth no later than five business days prior to the teleconference in order to reserve time on the meeting agenda. It is the policy of the EPA Science Advisory Board Staff Office to accept written public comments of any length, and to accommodate oral public comments whenever possible. Any member of the public wishing further information regarding the SAB or the Council HES may also contact Dr. Stallworth, or visit the SAB Web site at: http://www.epa.gov/sab.

SUPPLEMENTARY INFORMATION:

Background

EPA's Office of Air and Radiation (OAR) conducts periodic, scientifically reviewed studies to assess the costs and benefits of regulations promulgated under the Clean Air Act. The Council is an outside body of recognized experts charged with reviewing the data, methods and cost-benefit analyses conducted by OAR for implementing its programs. EPA has thus far issued one retrospective analysis of the Clean Air Act covering the 1970-1990 time period and one prospective analysis covering the 1990-2010 time period. EPA is planning a second prospective analysis covering the 1990-2020 time period and has issued two analytic blueprints for this analysis. The Council provided advice on these analytic blueprints in 2001 and 2004. These reports of the Council and its subcommittees may be found at http://www.epa.gov/sab/fiscal04.htm. OAR provides more information on “Section 812” reports at: http://www.epa.gov/air/sect812/index.html. Additional background on the Council and on the statutorily mandated analyses of the costs and benefits of Clean Air Act programs was provided in a Federal Register notice published on February 14, 2003 (68 FR 7531-7534).

In its March 2004 Advisory report, posted at: http://www.epa.gov/sab/pdf/council_adv_04002.pdf, the Council HES provided advice through the Council on the health science aspects of EPA's analytic blueprint for its second prospective analysis. EPA's Office of Air and Radiation and EPA's Office of Policy, Economics and Innovation recently requested that the Council provide clarification on its advice in this March 2004 report pertaining to cessation lags, i.e. the time delay between reductions in air pollution and reductions in human health effects. The Agency seeks clarification of the Council's advice regarding this issue of cessation lags so that the Agency's analysis of the benefits of future rules for particulate matter (PM 2.5) might comport with the Council's previous recommendations. The Agency seeks the Council's advice on this proposed cessation lag structure.

The September 21 and September 29 teleconferences will provide the Council HES an opportunity to address the Agency's questions as stated in the letter to the Council which is posted at: http://www.epa.gov/sab/pdf/comments_on_council_adv_04001.pdf. Agendas for these teleconferences will be posted on the SAB Web site prior to the teleconference calls.

Dated: September 3, 2004.
Vanessa T. Vu,
Director, EPA Science Advisory Board Staff Office.

[FR Doc. 04-20505 Filed 9-9-04; 8:45 am]

BILLING CODE 6560-50-P